DEPARTMENT OF ENERGY

Federal Energy Regulatory Commission

Combined Notice of Filings #2

Take notice that the Commission received the following electric corporate filings:

Docket Numbers: EC12-134-000.

Applicants: NRG Energy, Inc, GenOn Energy, Inc.

Description: Joint Application for Authorization of Disposition of Jurisdictional Assets and Merger Under Sections 203(a)(1) and 203(a)(2) of the Federal Power Act of NRG Energy, Inc. and GenOn Energy, Inc.

Filed Date: 8/10/12.

Accession Number: 20120810-5135.

Comments Due: 5 p.m. ET 8/31/12.

Take notice that the Commission received the following electric rate filings:

Docket Numbers: ER10-2488-004.

Applicants: Oasis Power Partners, LLC, Crescent Ridge LLC, Eurus Combine Hills I LLC, Avenal Park LLC, Sand Drag LLC, Sun City Project LLC, Eurus Combine Hills II LLC.

Description: Notice of Non-Material Change in Status of Avenal Park LLC, et al.

Filed Date: 8/10/12.

Accession Number: 20120810-5116.

Comments Due: 5 p.m. ET 8/31/12.

Docket Numbers: ER10-2532-002.

Applicants: Oasis Power Partners, LLC, Crescent Ridge LLC, Eurus Combine Hills I LLC, Avenal Park LLC, Sand Drag LLC, Sun City Project LLC, Eurus Combine Hills II LLC.

Description: Notice of Non-Material Change in Status of Avenal Park LLC, et al.

Filed Date: 8/10/12.

Accession Number: 20120810-5116.

Comments Due: 5 p.m. ET 8/31/12.

Docket Numbers: ER10-2722-002.

Applicants: Oasis Power Partners, LLC, Crescent Ridge LLC, Eurus Combine Hills I LLC, Avenal Park LLC, Sand Drag LLC, Sun City Project LLC, Eurus Combine Hills II LLC.

Description: Notice of Non-Material Change in Status of Avenal Park LLC, et al.

Filed Date: 8/10/12.

Accession Number: 20120810-5116.

Comments Due: 5 p.m. ET 8/31/12.

Docket Numbers: ER10-2787-002.

Applicants: Oasis Power Partners, LLC, Crescent Ridge LLC, Eurus Combine Hills I LLC, Avenal Park LLC, Sand Drag LLC, Sun City Project LLC, Eurus Combine Hills II LLC.

Description: Notice of Non-Material Change in Status of Avenal Park LLC, et al.

Filed Date: 8/10/12.

Accession Number: 20120810-5116.

Comments Due: 5 p.m. ET 8/31/12.

Docket Numbers: ER11-2855-003.

Applicants: Oasis Power Partners, LLC, Crescent Ridge LLC, Eurus Combine Hills I LLC, Avenal Park LLC, Sand Drag LLC, Sun City Project LLC, Eurus Combine Hills II LLC.

Description: Notice of Non-Material Change in Status of Avenal Park LLC, et al.

Filed Date: 8/10/12.

Accession Number: 20120810-5116.

Comments Due: 5 p.m. ET 8/31/12.

Docket Numbers: ER11-2856-003.

Applicants: Oasis Power Partners, LLC, Crescent Ridge LLC, Eurus Combine Hills I LLC, Avenal Park LLC, Sand Drag LLC, Sun City Project LLC, Eurus Combine Hills II LLC.

Description: Notice of Non-Material Change in Status of Avenal Park LLC, et al.

Filed Date: 8/10/12.

Accession Number: 20120810-5116.

Comments Due: 5 p.m. ET 8/31/12.

Docket Numbers: ER11-2857-003.

Applicants: Oasis Power Partners, LLC, Crescent Ridge LLC, Eurus Combine Hills I LLC, Avenal Park LLC, Sand Drag LLC, Sun City Project LLC, Eurus Combine Hills II LLC.

Description: Notice of Non-Material Change in Status of Avenal Park LLC, et al.

Filed Date: 8/10/12.

Accession Number: 20120810-5116.

Comments Due: 5 p.m. ET 8/31/12.

Docket Numbers: ER12-1801-001.

Applicants: Tucson Electric Power Company.

Description: Tucson Electric Power Attachment C Compliance Filing to be effective 7/16/2012.

Filed Date: 8/10/12.

Accession Number: 20120810-5069.

Comments Due: 5 p.m. ET 8/31/12.

Docket Numbers: ER12-2435-000.

Applicants: Entergy Mississippi, Inc.

Description: EMI-SMEPA 2nd Rev IA RS 251 to be effective 8/18/2011.

Filed Date: 8/10/12.

Accession Number: 20120810-5067.

Comments Due: 5 p.m. ET 8/31/12.

Docket Numbers: ER12-2436-000.

Applicants: Arizona Public Service Company.

Description: LGIA for the Foothills Solar Project, Service Agreement No. 324 to be effective 8/31/2012.

Filed Date: 8/10/12.

Accession Number: 20120810-5070.

Comments Due: 5 p.m. ET 8/31/12.

Docket Numbers: ER12-2437-000.

Applicants: Granite State Electric Company.

Description: 2012 Borderline Sales Tariff Rate Update to be effective 11/1/2011.

Filed Date: 8/10/12.

Accession Number: 20120810-5091.

Comments Due: 5 p.m. ET 8/31/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 10, 2012.
Nathaniel J. Davis, Sr.,
Deputy Secretary.

[FR Doc. 2012-20332 Filed 8-17-12; 8:45 am]

BILLING CODE 6717-01-P